DEPARTMENT OF DEFENSE

Office of the Secretary

[Transmittal No. 21-0F]

Arms Sales Notification

AGENCY: Defense Security Cooperation Agency, Department of Defense (DoD).

ACTION: Arms sales notice.

SUMMARY: The Department of Defense is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 21-0F with attached Policy Justification.

Dated: February 25, 2022.
Aaron T. Siegel,
Alternate OSD Federal Register Liaison Officer, Department of Defense.

BILLING CODE 5001-06-P

BILLING CODE 5001-06-C

Transmittal No. 21-0F

Report of Enhancement or Upgrade of Sensitivity of Technology or Capability (Sec. 36(b)(5)(c), AECA)

(i) Purchaser: Government of Finland

(ii) Sec. 36(b)(1), AECA Transmittal No.: 20-67

Date: October 9, 2020

Military Department: Navy

(iii) Description: On October 9, 2020 Congress was notified by Congressional certification transmittal number 20-67 of the possible sale, under Section 36(b)(1) of the Arms Export Control Act, of fifty (50) F/A-18E Super Hornet aircraft; eight (8) F/A-18F Super Hornet aircraft; fourteen (14) EA-18G Growler aircraft; one hundred sixty-six (166) F414-GE-400 engines (144 installed and 22 spares); five hundred (500) GBU-53/B Small Diameter Bomb II (SDB II) All-Up Round (AUR); twelve (12) GBU-53/B SDB II Guided Test Vehicles (GTV); twelve (12) GBU-53/B SDB II Captive Carry Reliability Trainers; one hundred fifty (150) AIM-9X Block II Sidewinder Tactical Missiles; thirty-two (32) AIM-9X Block II Sidewinder Captive Air Training Missiles (CATMs); thirty (30) AIM-9X Block II Sidewinder Tactical Guidance Units; eight (8) AIM-9X Block II Sidewinder CATM Guidance Units; one hundred sixty (160) AGM-154C-1 Joint Stand Off Weapons (JSOW); two hundred (200) AGM-158B-2B Joint Air-to-Surface Standoff Missile Extended Range All Up Rounds (JASSM ER AUR); two (2) AGM-158B-2 JASSM Separation Test Vehicles (STV); two (2) AGM-158B-2 JASSM Instrumented Test Vehicles (ITV); two (2) AGM-158B-2 JASSM Jettison Test Vehicles (JTV); two (2) AGM-158B-2 Inert Joint Air-to-Surface Standoff Missile (JASSM) with Telemetry Instrumental Kits; two (2) AGM-158B-2 JASSM Maintenance Training Missiles (DATM); one hundred twenty (120) BLU-117B/B 2000LB GP Bombs; one hundred twenty (120) KMU-556F/B Bomb Tail Kits (JDAM); three hundred (300) FMU-139D/B Fuzes; two (2) KMU-556(D-2)/B Trainers (JDAM); thirty (30) BLU-109C/B 2000LB Bombs; thirty (30) KMU-557F/B Bomb Tail Kits (JDAM); two (2) BLU-109(D-1)/B 2000LB Bombs; one hundred two (102) BLU-111B/B 500LB General Purpose Bombs; one hundred two (102) KMU-572F/B JDAM Bomb Tail Kits; six (6) MK-82-0,1 500LB, General Purpose Bombs, Inert; fifty-one (51) BLU-110B/B 1000LB General Purpose Bombs; fifty (50) KMU-559F/B Bomb Tail Kits; fifty-eight (58) M61A2 20MM Gun Systems; thirty-two (32) Advanced Targeting Forward-Looking Infrared (ATFLIR); thirty-two (32) Sniper Targeting Pods; fourteen (14) Advanced Electronic Attack Kit for EA-18G; sixty-five (65) AN/ALR-67(V)3 Electric Warfare Countermeasures Receiving Sets; sixty-five (65) AN/ALQ-214 Integrated Countermeasures Systems; seventy-four (74) Multifunctional Information Distribution Systems—Joint Tactical Radio Systems (MIDS JTRS); eighty-nine (89) Joint Helmet Mounted Cueing Systems (JHMCS); three hundred seventy-seven (377) LAU-127E/A Guided Missile Launchers; seventy-four (74) AN/AYK-29 Distributed Targeting Processor—Networked (DTP-N); twenty-five (25) Infrared Search and Track (IRST) Systems; and eight (8) Next Generation Jammer Mid-Band (NGJ-MB) sets. Also included are AN/APG-79 Active Electronically Scanned Array (AESA) radars; High Speed Video Network (HSVN) Digital Video Recorder (HDVR); AN/AVS-9 Night Vision Goggles (NVG); AN/AVS-11 Night Vision Cueing Devices (NVCD); AN/ALE-47 Electronic Warfare Countermeasures Systems; AN/ARC-210 Communication System; AN/APX-111 Combined Interrogator Transponder; AN/ALE-55 Towed Decoys; Launchers (LAU-115D/A, LAU-116B/A, LAU118A); AN/AAQ-28(V) Litening Targeting Pod; Joint Mission Planning System (JMPS); Accurate Navigation (ANAV) Global Positioning System (GPS) Navigation; Aircraft Armament Equipment (AAE); Aircraft Ferry transportation; Foreign Liaison Officer (FLO) Support; Auxiliary Fuel Tanks, FMU-139D(D-2)/B fuzes; MK84-4 2000LB General Purpose Inert Bombs, MK83 Bomb General Purpose Inert Bombs; KMU-557C(D-2)/B tail kits; KMU-572C(D-2)/B tail kits; Detector Laser DSU-38A/B, Detector Laser DSU-38A(D-2)/B, KMU-559C(D-2)/B load trainer; Wing Release Lanyard Assemblies; AGM-154C-1 JSOW Captive Flight Vehicles, Dummy Air Training Missiles, AGM-154C-1 JSOW mission planning, integration support and testing, munitions storage security and training, weapon operational flight program software development; weapons containers; aircraft and munitions support and test equipment; communications equipment; provisioning, spares and repair parts; weapons repair and return support; personnel training and training equipment; weapon systems software, publications and technical documents; U.S. Government and contractor engineering, technical, and logistics support services; and other related elements of logistical and program support. The total estimated cost was $14.7 billion. Major Defense Equipment (MDE) constituted $9.2 billion of this total.

This transmittal reports the inclusion of the following additional MDE items: up to three hundred (300) AIM-120C-8 Advanced Medium Range Air-to-Air Missiles (AMRAAM); up to six (6) AMRAAM Guidance Sections (spares); up to five hundred (500) GBU-39/B Small Diameter Bomb Increment 1 (SDB I) munitions with CNU-659 containers; two (2) GBU-39 (T-1)/B inert practice bombs; up to fifteen (15) AN/ALQ-99 Government Furnished Export (GFX); up to sixty-seven (67) AN/ALR-67(V)3 Electric Warfare Countermeasures Receiving sets; up to sixty-seven (67) AN/ALQ-214 Integrated Countermeasures Systems; up to fifteen (15) AN/ALQ-249 Next Generation Jammer Mid-Band (NGJ-MB) sets; two hundred (200) FMU-139D/B fuzes; one hundred ninety eight (198) BLU-111B/B 500LB general purpose bombs; and one hundred ninety eight (198) KMU-572F/B JDAM bomb tail kits. The following non-MDE items will also be included: up to six (6) AMRAAM Control Sections (spares); up to thirty-two (32) AMRAAM Captive Air Training Missiles (CATMs); containers; weapon system support equipment; support and test equipment; site surveys; spare and repair parts; repair and return support; publications and technical data; maintenance and aircrew training; and other related elements of logistics support.

The total cost of the new MDE articles is $1.377 billion, and the total cost of the new non-MDE articles is $50 million. The total notified cost of MDE will increase to $10.577 billion, and the total notified case value will increase to $16.127 billion.

(iv) Significance: This notification is being provided to report the inclusion of MDE items not previously notified. Their inclusion represents an increase in capability over what was previously notified. The proposed articles and services will support Finland's proposed procurement of the F/A-18E and EA-18G weapons systems.

(v) Justification: This proposed sale will support the foreign policy and national security of the United States by improving the security of a trusted partner which is an important force for political stability and economic progress in Europe. It is vital to the U.S. national interest to assist Finland in developing and maintaining a strong and ready self-defense capability.

(vi) Sensitivity of Technology: The AIM-120C-8 Advanced Medium Range Air-to-Air Missile (AMRAAM) is a supersonic, air launched, aerial intercept, guided missile featuring digital technology and micro-miniature solid-state electronics. The potential sale will include AMRAAM Guidance Sections. AMRAAM capabilities include look-down/shoot-down, multiple launches against multiple targets, resistance to electronic countermeasures, and interception of high- and low-flying and maneuvering targets. The AIM-120C-8 is a form, fit, function refresh of the AIM-120C-7 and is the next generation to be produced.

The GBU-39 Small Diameter Bomb Increment 1 (SDB I) is a 250-lb GPS-aided inertial navigation system, small autonomous, day or night, adverse weather, conventional, air-to-ground precision glide weapon able to strike fixed and stationary re-locatable non-hardened targets from standoff ranges. It is intended to provide aircraft with an ability to carry a high number of bombs. Aircraft are able to carry four SDB I's in place of one 2,000-pound bomb. The SDB I Guided Test Vehicle (GTV) is an SDB I configuration used for land or sea range-based testing of the SDB I weapon system. The GTV has common flight characteristics of an SDB I All-Up Round (AUR), but in place of the multi-effects warhead is a Flight Termination, Tracking, and Telemetry (FTTT) subassembly that mirrors the AUR multi-effects warhead's size and mass properties, but provides safe flight termination, free flight tracking and telemetry of encrypted data from the GTV to the data receivers. The SDB I GTV can have either inert or live fuzes. All other flight control, guidance, data-link, and seeker functions are representative of the SDB I.

The AN/ALQ-99 Government Furnished Export (GFX) is an external carriage Airborne Electronic Attack capability for the EA-18G Growler aircraft used against radar and communications targets for the suppression of enemy integrated air defenses.

The Sensitivity of Technology Statement contained in the original notification applies to the other items reported here. The highest level of classification of defense articles, components, and services included in this potential sale is SECRET.

(vii) Date Report Delivered to Congress: March 19, 2021.

[FR Doc. 2022-04471 Filed 3-2-22; 8:45 am]

BILLING CODE 5001-06-P